DEPARTMENT OF ENERGY

Federal Energy Regulatory Commission

[Docket No. IC25-16-000]

Commission Information Collection Activities (Ferc-604); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-604 (Cash Management Agreements), which will be submitted to the Office of Management and Budget (OMB) for a review of the information collection requirements. There are no program changes.

DATES: Comments on the collection of information are due October 20, 2025.

ADDRESSES: Send written comments on FERC-604 to OMB through: https://www.reginfo.gov/public/do/PRA/icrPublicCommentRequest?ref_nbr=202508-1902-003.

You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-16-000) and the FERC Information Collection number (FERC-604) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: Cash Management Agreements.

OMB Control No.: 1902-0267.

Type of Request: Three-year extension of the FERC-604 information collection requirements with no changes to the current reporting requirements.

Abstract: This collection of information is authorized by the following statutory provisions:

• Sections 8 and 10 of the Natural Gas Act (15 U.S.C. 717g and 717i);

• Sections 301 and 304 of the Federal Power Act (16 U.S.C. 835 and 825c); and

• Sections 20(1) and 20(5) of the Interstate Commerce Act (49 App. U.S.C. 20(1) and 20(5)).

Cash management or “money pool” programs typically concentrate affiliates' cash assets in joint accounts for the purpose of providing financial flexibility and lowering the cost of borrowing. In a 2002 investigation, FERC staff found that balances in cash management programs affecting FERC-regulated entities totaled approximately $16 billion. Additionally, other investigations revealed large transfers of funds (amounting to more than $1 billion) between regulated pipeline affiliates and non-regulated parents whose financial conditions were precarious. The Commission found that these and other fund transfers and the enormous (mostly unregulated) pools of money in cash management programs could detrimentally affect regulated rates.

To protect customers and promote transparency, the Commission issued Order No. 634-A (2003) requiring entities to formalize in writing and file with the Commission their cash management agreements.¹ At that time, the Commission obtained OMB clearance for this new reporting requirement under the FERC-555 information collection (OMB Control No. 1902-0098). Now, the Commission includes these reporting requirements for cash management agreements under the FERC-604 information collection (OMB Control No. 1902-0267). The Commission implements these reporting requirements in accordance with 18 CFR 141.500, 260.400, and 357.5.

¹ Regulation of Cash Management Practices, Order No. 634-A, 105 FERC ¶ 61098, at PP 39 and 74 (2003).

Type of Respondents: Public utilities, natural gas companies, and oil pipeline companies.

² Burden is defined as the total time, effort, or financial resources expended by persons to generate, maintain, retain, or disclose or provide information to or for a federal agency. See 5 CFR 1320 for additional information on the definition of information collection burden.

Estimate of Annual Burden: ² The Commission estimates the annual public reporting burden for the information collection as:

Number of respondents | Number of responses per respondent | Total number of responses | Average burden hours & average cost ³ per response ($) | Total annual burden hours & total annual cost ($) | Cost per respondent ($)
(1) | (2) | (1) * (2) = (3) | (4) | (3) * (4) = (5) | (5) ÷ (1) = (6)
45 | 1 | 45 | 1.5 hours; $155 | 67.5 hours; $6,953 | $155

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The Commission staff estimates that the industry's hourly cost for wages plus benefits is similar to the Commission's FY 2025 average hourly cost for wages and benefits of $103 ($214,093 annual costs).

Dated: September 15, 2025.
Debbie-Anne A. Reese,
Secretary.

[FR Doc. 2025-18091 Filed 9-17-25; 8:45 am]

BILLING CODE 6717-01-P